DEPARTMENT OF HEALTH AND HUMAN SERVICES

Administration for Children and Families

Notice of Award of Non-Competitive Grant

AGENCY: Administration on Children, Youth and Families (ACYF), ACF, DHHS.

ACTION: Notice, opportunity to comment.

SUMMARY: Notice is hereby given that ACYF is considering awarding discretionary research grant funds without competition to the University of Washington, Evans School of Public Affairs, Human Services Policy Center, for up to $216,227 of Child Care and Development Block Grants funds in FY 2002. The project period would begin on September 30, 2002, and end on September 29, 203. This award will be made to the University of Washington to provide Federal support for a research project that will generate State-level estimates of the child care workforce.

The proposed research project addresses many questions of relevance to the child care field, to ACF, and to the Child Care Bureau. The project will provide the methodology and tools to measure the distribution and characteristics of the child care workforce, thereby contributing crucial information to public policy discussions and ultimately to improvement of services, leading to better outcomes for children and families. Child care workforce estimates are critical for determining the need for additional workers based on current demands as well as States' projections in terms of economic development, welfare reform, the education and training of child care providers, and alternative approaches to child care finance. The project is highly relevant to efforts by ACF, the Child Care Bureau and States to improve the quality of early learning opportunities in child care environments.

The project builds on a new workforce estimation model developed by the University of Washington's Human Services Policy Center in collaboration with the Center for the Child Care Work Force. This important and innovative work has generated extensive interest in the child care policy research filed. In this new study, the investigators will apply and validate their model of the child care workforce by applying the methodology to selected States. Once the efficacy of the model has been validated, it can be used to produce workforce estimates for each of the 50 States and potentially, for sub-state regions.

The methodology will also provide an inexpensive way for States to continually update estimates of their child care workforce. State-estimates are important for several reasons. Major decisions concerning child care financing and quality-improvement are made by States; knowing the size of the current workforce will assist Stats in planing such initiatives. State-level workforce estimates can also be useful in validating national demand-based workforce, inconsistencies in type and availability of data preclude aggregating their estimates into national profiles. More uniformity and validity of State data will allow for aggregation across States to provide a better national picture of the U.S. child care workforce than is currently available. such estimates are needed to describe national trends, identify emerging needs, and guide future policy formulations.

Communities, using the tools developed through this project, will also be able to measure their own child are workforce characteristics, articulate the needs of their communities, and identify alternative policy and programmatic responses. Groups of communities with similar characteristics (such as rural areas or inner cities) will be able to ascertain workforce characteristics and needs that may be unique to these types of settings.

The University of Washington is in a unique position to carry out this work with highly qualified personnel, university facilities and in-kind resources. The Human Services Policy Center in the Evans School of Public Affairs is the original developer of this model and has completed the groundwork and planning for this next phase of validation and dissemination of the model to States and communities for their own use. The school has good capability for carrying out the work to a high degree of quality, for analyzing national and state-level trends, and for disseminating the model to the field.

The study has a strong research design and methodology, builds on a solid understanding of the current state of research in the child care field, and is lead by an exceptionally experienced team of investigators. The data collected through this study will provide information urgently needed by policymakers as we enter the next phase of early education and welfare reform.

The study answers a call for needed research on economic models of child care expressed by researchers and policymakers in the most recent meeting of the Child Care Policy Research Consortium held in Washington, DC, on April 17-19, 2002, and the Annual Meeting of State Child Care Administrators held in Washington, DC on July 31-August 2, 2002.

The Agency is providing members of the public, including qualified organizations that would be interested in competing for the funding, if a competition were held, and opportunity to comment on the planned action.

Statutory Authority: This award will be made pursuant to the Child Care and Development Block Grant Act of 1990 as amended (CCDBG Act); section 418 of the Social Security Act; Consolidated Appropriations Act, 2001 (Pub. L. 106-554). The Catalog of Federal Domestic Assistance is 93.647.

DATES: In order to be considered, comments on this planned action must be received on or before October 7, 2002.

ADDRESSES: Interested parties, including qualified organizations that would be interested in competing for the funding, if a competition were held, should write to: Karen Tvedt, Child Care Bureau, Administration on Children, Youth and Families (ACYF), Administration for Children and Families (ACF), Department of Health and Human Services, 330 C Street SW., Room 2046, Washington, DC 20447; e-mail address: ktvedt@act.hhs.gov.

FOR FURTHER INFORMATION CONTACT: Karen Tvedt, Child Care Bureau, at (202) 401-5130.

Catalog of Federal Domestic Assistance Program Number 93.647, Child Care Research Discretionary Grants.
Dated: September 23, 2002.
Joan E. Ohl,
Commissioner, Administration on Children, Youth and Families.

[FR Doc. 02-24659 Filed 9-26-02; 8:45 am]

BILLING CODE 4184-01-M